DEPARTMENT OF TRANSPORTATION

Federal Railroad Administration

[Docket No. FRA-2022-0031]

Establishment of the Corridor Identification and Development Program

AGENCY: Federal Railroad Administration (FRA), Department of Transportation (DOT).

ACTION: Notice of establishment; request for expressions of interest.

SUMMARY: On November 15, 2021, President Biden signed into law the Infrastructure Investment and Jobs Act, also known as the Bipartisan Infrastructure Law (BIL), which requires the Secretary of Transportation (Secretary) to establish a Corridor Identification and Development program to facilitate the development of intercity passenger rail corridors within 180 days of enactment. In compliance with this directive, by this Notice, FRA is establishing the Corridor Identification and Development program.

ADDRESSES: See the SUPPLEMENTARY INFORMATION section for further information regarding submitting expressions of interest to docket number FRA-2022-0031.

FOR FURTHER INFORMATION CONTACT: For further information, please contact Peter Schwartz, Chief, Project Engineering and Transportation Planning Division, by email: PaxRailDev@dot.gov or by telephone: 202-493-6360.

SUPPLEMENTARY INFORMATION:

Table of Contents for Supplementary Information

I. Executive Summary

II. Federal Role in Intercity Passenger Rail Service Development

III. Statutory Overview

IV. Outreach

V. Corridor ID Program Implementation

VI. Expressions of Interest

VII. Next Steps

I. Executive Summary

The BIL requires the Secretary to establish a program—referred to here as the Corridor Identification and Development Program or Corridor ID Program—to facilitate the development of intercity passenger rail corridors, within 180 days of enactment. 49 U.S.C. 25101(a). The Federal Railroad Administrator is delegated the authority to establish and administer the Corridor ID Program. 49 CFR 1.89(a).

The Corridor ID Program establishes a comprehensive intercity passenger rail planning framework that will help guide future federal project development work and capital investments. FRA encourages eligible entities to submit expressions of interest in the Corridor ID Program consistent with the directions below. In addition, as described below, FRA plans to publish a notice soliciting proposals by eligible entities to participate in the Corridor ID Program in the last quarter of this calendar year.

II. Federal Role in Intercity Passenger Rail Service Development

The establishment of the Corridor ID Program represents a major milestone in the over five decades of Federal work on intercity passenger rail development. Beginning with the enactment of the High-Speed Ground Transportation Act of 1965, FRA worked to deploy modern high-speed ground transportation technologies and introduced a multi-modal, long-term planning effort for the Northeast Corridor (NEC). With the creation of Amtrak in 1970, and the subsequent major engineering and construction effort of the Northeast Corridor Improvement Project, FRA helped to demonstrate the ability of intercity passenger rail to compete successfully in the passenger transportation market of one of the country's most heavily traveled corridors.

In the 1980s, FRA, in conjunction with Amtrak, issued a series of reports on “Emerging Corridors,” which explored the potential for the development of intercity passenger rail corridors throughout the United States. At the same time, States began to demonstrate increased interest and involvement in intercity passenger rail development, with many undertaking independent investigations into the development of new corridors. State interest in intercity passenger rail development has continued to grow, with many States now considering passenger rail an integral part of their State transportation policy, and providing significant funding to the operation, improvement, and expansion of such services.

With the enactment of the Intermodal Surface Transportation Efficiency Act of 1991, Congress called upon FRA to designate five high-speed rail corridors for the purpose of directing funding for the elimination of railroad-highway grade crossings (from 1998 through 2011 FRA made additional corridor designations and extensions). FRA also completed a “commercial feasibility study” of high-speed ground transportation systems, resulting in the 1997 report High-Speed Ground Transportation for America, which examined the potential of a variety of high-speed ground transportation technologies across eight illustrative corridors.

Then, in the Passenger Rail Investment and Improvement Act of 2008, Congress expanded the role of States in intercity passenger rail development and implementation, and created several new grant programs to fund capital improvements to existing and new intercity passenger rail services. Under these new programs, FRA administered significant investments in passenger rail development and implementation. These efforts included funding for service development plans, preliminary engineering and environmental review work activities, and engagement with State rail plans, as well as the development of regional rail plans. Additional railroad capital improvement programs were established by the Fixing America's Surface Transportation Act of 2015, and significant funding has been appropriated for those programs in every year since. Most recently, the enactment of the BIL has provided a historic, unprecedented level of funding for the improvement and expansion of intercity passenger rail service. Importantly, the BIL requires the establishment of the Corridor ID Program—a formal framework to guide the future development of intercity passenger rail throughout the country. Unlike previous Federal intercity passenger rail planning efforts, the Corridor ID Program is intended both to support a sustained long-term development effort, and to set forth a capital project pipeline ready for Federal (and other) funding.

III. Statutory Overview

A. In General

The BIL requires the Secretary, within 180 days of enactment, to establish the Corridor ID Program to facilitate the development of intercity passenger rail corridors. 49 U.S.C. 25101(a).

The BIL further provides that the Corridor ID Program shall include: (1) A process for eligible entities to submit proposals for the development of corridors; (2) a process for the review and selection of such proposals; (3) criteria for determining level of readiness for Federal financial assistance of a corridor (to include identification of the service operator, service sponsor, and capital project sponsors; engagement with host railroads; and other criteria determined appropriate by the Secretary); (4) a process for preparing service development plans; (5) the creation of a pipeline of intercity passenger rail corridor projects; (6) planning guidance; and (7) such other features as the Secretary considers relevant to the successful development of intercity passenger rail corridors. 49 U.S.C. 25101(a)(1)-(7).

B. Eligible Entities

The following entities are eligible to submit proposals to participate in the Corridor ID Program: (1) Amtrak; (2) States; (3) groups of States; (4) entities implementing interstate compacts; (5) regional passenger rail authorities; (6) regional planning organizations; (7) political subdivisions of a State; (8) federally-recognized Indian Tribes; and (9) other public entities, as determined by the Secretary. 49 U.S.C. 25101(b).

C. Eligible Routes

The following types of routes are eligible to participate in the Corridor ID Program: (1) A new intercity passenger rail route of less than 750 miles; (2) the enhancement of an existing intercity passenger rail route of less than 750 miles; (3) the restoration of service over all or portions of an intercity passenger rail route formerly operated by Amtrak; and (4) the increase of service frequency of a long-distance intercity passenger rail route. 49 U.S.C. 25101(h).

D. Selection Criteria

In selecting intercity passenger rail corridors for participation in the Corridor ID Program, the Secretary must consider 14 criteria, as follows:

(1) Whether the route was identified as part of a regional or interregional planning study;

(2) The projected ridership, revenues, capital investment, and operating funding requirements;

(3) The anticipated environmental, congestion mitigation, and other public benefits;

(4) The projected trip times and their competitiveness with other transportation modes;

(5) The anticipated positive economic and employment impacts;

(6) The committed or anticipated non-Federal funding for operating and capital costs;

(7) The benefits to rural communities;

(8) Whether the corridor is included in a State's approved State rail plan;

(9) Whether the corridor serves historically unserved or underserved and low-income communities or areas of persistent poverty;

(10) Whether the corridor would benefit or improve connectivity with existing or planned transportation services of other modes;

(11) Whether the corridor connects at least 2 of the 100 most populated metropolitan areas;

(12) Whether the corridor would enhance the regional equity and geographic diversity of intercity passenger rail service;

(13) Whether the corridor is or would be integrated into the national rail passenger transportation system and would create benefits for other passenger rail routes and services; and

(14) Whether a passenger rail operator has expressed support for the corridor.

E. Service Development Plans

For each proposal selected for development under the Corridor ID Program, the Secretary shall partner with the proposing entity, relevant States, and Amtrak, as appropriate, to prepare a service development plan (or to update an existing service development plan). 49 U.S.C. 25101(d).

These service development plans include the following information: (1) A detailed description of the proposed intercity passenger rail service, including train frequencies, peak and average operating speeds, and trip times; (2) a corridor project inventory that identifies the capital projects necessary to achieve the proposed service and the order in which Federal funding will be sought; (3) a schedule and associated phasing of projects and related service initiation or changes; (4) project sponsors and other entities expected to participate in carrying out the plan; (5) a description of how the corridor would comply with Federal rail safety and security laws; (6) the locations of existing and proposed stations; (7) the needs for rolling stock and other equipment; (8) a financial plan; (9) a description of how the corridor would contribute to the development of a multi-State regional network of intercity passenger rail; (10) an intermodal plan describing how the new or improved corridor facilitates travel connections with other passenger transportation services; (11) a description of the anticipated environmental benefits of the corridor; and (12) a description of the corridor's impacts on highway and aviation congestion, energy consumption, land use, and economic development in the service area. 49 U.S.C. 25101(d)(1)-(12).

In partnering on the preparation of a service development plan, the Secretary must consult with: Amtrak; State and regional transportation authorities and local officials; representatives of employee labor organizations; host railroads; and other stakeholders as determined by the Secretary. 49 U.S.C. 25101(e).

In addition, every five years after the initial development of a service development plan, if at least 40% of the work to implement the plan has not been completed, then the plan's sponsor, in consultation with the Secretary, shall determine whether the plan should be updated. 49 U.S.C. 25101(f).

F. Project Pipeline

Within 1 year of establishing the program, and by February 1st of each year thereafter, the Secretary must submit a “project pipeline” report to Congress. 49 U.S.C. 25101(g). The project pipeline report: (1) Identifies intercity passenger rail corridors selected for development; (2) identifies capital projects for Federal investment, project applicants, and proposed Federal funding levels, as applicable; (3) specifies the order in which the Secretary would provide Federal financial assistance to projects that have been identified; (4) takes into consideration the appropriate sequence and phasing of projects; (5) takes into consideration the existing commitments and anticipated Federal, project applicant, sponsor, and other relevant funding levels for the next 5 fiscal years; (6) is prioritized based on the level of readiness of the corridor; and (7) reflects consultation with Amtrak. 49 U.S.C. 25101(g)(1)-(7).

G. Funding

FRA is authorized to use up to 5 percent of the funding made available for the Federal-State Partnership for Intercity Passenger Rail grants (Fed-State Partnership) program to carry out planning and development activities, including eligible activities related to the Corridor ID Program. 49 U.S.C. 24911(k). Such activities include: (1) Providing funding to public entities for the development of SDPs selected under the Corridor ID Program; (2) facilitating and providing guidance for intercity passenger rail systems planning; and (3) providing funding for the development and refinement of intercity passenger rail systems planning analytical tools and models. 49 U.S.C. 24911(k).

In addition, under the Fed-State Partnership program, when selecting projects for funding that are not located on the NEC, the Secretary must give preference to eligible projects that are identified in, and consistent with, a corridor inventory prepared under the Corridor ID Program. 49 U.S.C. 24911(d)(2)(A)(i). Similarly, under the Restoration and Enhancements Grants program, the Secretary must give priority to applications for routes selected under the Corridor ID Program and operated by Amtrak. 49 U.S.C. 22908(d)(10).

IV. Outreach

FRA has conducted, and intends to continue, extensive outreach to ensure the Corridor ID Program is positioned to successfully facilitate the development of intercity passenger rail corridors.

A. Request for Information

FRA published a Request for Information (RFI) in the Federal Register on February 7, 2022 seeking comments on the Corridor ID Program and how it can best serve stakeholders and the public in facilitating the development of intercity passenger rail corridors. FRA-2022-0006-0001. The RFI included a number of specific questions regarding the Corridor ID Program, including: Roles and responsibilities within the Corridor ID Program; service development plans; the project pipeline; the funding of program activities; readiness of proposals for selection into the Corridor ID Program; criteria for the selection of proposals; and the selectivity of the Corridor ID Program.

In response, FRA received over 400, many quite detailed, comments in connection with the RFI. These comments are invaluable to FRA and inform FRA's approach to the Corridor ID Program.

B. Listening Sessions

FRA conducted three listening sessions in connection with the Corridor ID Program. On February 16, 2022, FRA held a virtual listening session with entities who are eligible to submit proposals under the Corridor ID Program. On February 17, 2022, FRA held a virtual listening session with host railroads. Also, on February 17, 2022, FRA held a virtual listening session with associations, advocacy groups, contractors, and other stakeholders interested in the Corridor ID Program. A total of 469 individuals registered to attend these three listening sessions.

At each of these listening sessions, FRA presented an overview of the statutory framework of the Corridor ID Program, and invited comments and statements on the Corridor ID Program and the focused topics presented in the RFI.

The listening sessions successfully generated many comments on the Program. While the comments were not uniform, represented a variety of perspectives, and addressed many aspects of the Corridor ID Program from its broad framework to its details, several themes emerged. These themes included the following, that the Corridor ID Program should: (1) Expand on the geographic scope of previous corridor development efforts in order to serve communities and regions that are not currently well-served by passenger rail service; (2) in addition to laying the foundation for a longer-term planning framework, also strive to deliver “quick wins;” (3) include multi-State and multi-project corridors; (4) be clear on the length of eligible corridors; (5) place relatively less emphasis on the selection criteria regarding non-Federal funding for operating costs; (6) be clear on how the Corridor ID Program relates to other FRA programs and requirements; (7) be clear on whether the corridor must be in a State rail plan; (8) provide multi-year funding; (9) provide “tracks” with different evaluation criteria to accommodate corridor proposals at different levels of readiness; (10) be clear on how a project that is not initially selected can join the Corridor ID Program at a later date; and (11) provide a clear timeline for application and selection.

V. Corridor ID Program Implementation

A. In General

FRA intends for the Corridor ID Program, as it grows and matures, to become the primary means for directing Federal financial support and technical assistance toward the development of proposals for new or improved intercity passenger rail services throughout the United States. Development activities under the Corridor ID Program will include the preparation of Service Development Plans, the identification of capital projects necessary to support a corridor, and the advancement of such projects, as appropriate, through preliminary engineering (PE) and the National Environmental Policy Act (NEPA) process, for the ultimate purpose of advancing the corridor for subsequent and immediate implementation (comprising final design and construction activities). Importantly, the selection of a corridor into the Corridor ID Program will represent a decision by FRA to provide financial assistance for the completion of these pre-implementation corridor development activities, subject to the successful completion of program requirements and the availability of funding. That said, FRA also intends to provide guidance, outreach, and technical assistance to entities that submit proposals that are not selected for the Corridor ID Program, in order to assist in the refinement of such proposals for future consideration.

While the Corridor ID Program itself will only encompass the pre-construction development of selected corridors—which may include planning, environmental review, preliminary engineering, and other corridor development activities—selection of corridors into the Corridor ID Program by FRA will reflect the agency's interest in the advancement of these corridors to implementation and operation. As such, an important consideration in selecting corridors will be the demonstration of a commitment on the part of the entity submitting the proposal, and the corridor's proposed capital project and service sponsors, to the future implementation and operation of the corridor (e.g., documented support for the proposal from relevant legislative and executive government bodies, an established history of support for intercity passenger rail operations and capital investments, etc.). While this commitment may be preliminary when submitting a proposal, FRA expects that the commitment will grow and solidify as the corridor advances through development under the Corridor ID Program.

As detailed below under “Next Steps,” in the last quarter of calendar year 2022, FRA plans to issue a notice soliciting proposals from eligible entities to participate in the Corridor ID Program. That solicitation will provide detailed information on the Corridor ID Program's application requirements, in addition to other relevant information. FRA will consider proposals both for entirely undeveloped concepts for new or improved corridors, and for concepts that have been the subject of past or ongoing development efforts. For the latter, selection into the Corridor ID Program will provide the opportunity to complete or update the prior corridor development efforts, and to include capital projects necessary to implement those corridors in the Corridor ID Program project pipeline.

In keeping with the long-range orientation of the Corridor ID Program, FRA anticipates issuing subsequent solicitations for proposals at regular intervals to allow new corridors, when ready, to enter the Corridor ID Program. Such an approach will allow for a consistent flow of new corridors entering the Corridor ID Program for development, and fully-developed corridors (or implementation phases of corridors) exiting the Corridor ID Program with capital projects ready for construction and funding opportunities. Furthermore, in advance of the first solicitation of proposals FRA is encouraging eligible entities interested in submitting a corridor proposal to submit a comment in response to this Notice expressing such interest (see section VI. Expressions of Interest below). FRA intends to use these Expressions of Interest to assist in developing the initial solicitation of proposals, and to facilitate potential outreach, prior to the issuance of the initial solicitation, to entities that express an interest in submitting a proposal.

B. Proposals

The details of the required content for proposals to the Corridor ID Program will be set forth in FRA's forthcoming notice soliciting proposals. In general, FRA will seek: (1) Information regarding the basic characteristics of the corridor; (2) information necessary to assess the readiness of the corridor to enter into development under the Corridor ID Program; and (3) information necessary to assess a proposal against the Corridor ID Program's statutory selection criteria (see section III.D. Selection Criteria above).

In terms of the basic characteristics of a proposed corridor, a proposal will need to identify the key geographic travel markets (“corridor-defining markets”) which must be served for the corridor to fulfill its intended objectives. The proposal should also include high-level initial estimates, preferably expressed as ranges or options, of certain characteristics for the corridor, including: (1) Potential service frequencies and travel times between the corridor-defining markets; and (2) the potential geographic routes for the proposed corridor, particularly if the subject corridor is intended to operate over existing rail lines.

In general, proposals should not include information at a level of detail or specificity that overlaps with that of an SDP, as such information will be prepared in partnership with FRA as part of the subsequent development of the corridor under the Corridor ID Program. 49 U.S.C. 25101(d). However, for proposals that relate to corridors that have been the subject of prior development efforts (such as the preparation of an SDP) undertaken with FRA's direct participation, such proposals may reference the findings, recommendations, and conclusions of that earlier development work.

In regards to the readiness of the corridor for development under the Corridor ID Program, a proposal should demonstrate the existing level of commitment of the entity submitting the proposal, and the corridor's proposed capital project and service sponsors, to the future implementation and operation of the corridor, including the degree of coordination and agreement among these parties. FRA does not plan to require that a proposal demonstrate a commitment by host railroads over which the corridor would operate, as coordination and consultation with host railroads will be conducted as part of the preparation of an SDP under the Corridor ID Program. 49 U.S.C. 25101(e)(4). Furthermore, due to the significance that the operation of a service by Amtrak would have on the corridor development process (including the use and improvement of facilities of host railroads, ongoing operating and maintenance costs, and requirements regarding the provision of operating financial support by service sponsors), FRA also plans to request that proposals explicitly state whether or not the corridor is intended to be operated by Amtrak.

FRA also plans to request that proposals include information regarding: The legal, technical, and financial capability and capacity of the eligible entity and relevant partners to engage in the development of the corridor, as well as their ability to develop further such capabilities and capacities to support the future implementation and operation of the corridor; and the ability to provide the necessary future non-Federal share of funding for capital projects and ongoing operating financial support for the corridor. The ability to secure such future funding may be demonstrated by the corridor sponsor's past or current funding of intercity passenger rail capital improvements and operations. In addition, FRA plans to request that an entity submitting a corridor proposal demonstrate that funding has been secured for the non-Federal share of costs associated with the first stage of development of the proposal under the program (i.e., the preparation, or updating, of an SDP, and the definition and identification of a preliminary range of reasonable alternatives for the immediate implementation phase or phases of the corridor—see “Development Stages” below).

Lastly, FRA recognizes that corridor proposals will vary widely in their complexity, risks, and requirements. As such, the required level of detail for a corridor proposal will vary based on the characteristics of the corridor. For example, the required content for proposals for more complex corridors (e.g., proposing the construction of new rail lines, involving significant improvement to host railroad facilities, requiring significant increases in ongoing operating financial support by the service sponsor, etc.) will be more comprehensive than those for less complex corridors (e.g., proposing incremental improvements to an existing corridor with few or no improvements to host railroad facilities, and little to no increased requirement for ongoing operating financial support by the service sponsor).

C. Selection

FRA will select corridors for participation in the Corridor ID Program based on an assessment of the readiness of the corridor to commence development under the Corridor ID Program (including the demonstrated level of commitment to the development, implementation, and operation of the corridor), and through the application of the statutory selection criteria. As noted above, the selection of a corridor will represent a key decision by FRA to provide financial assistance for pre-implementation activities supporting the development of the corridor under the Corridor ID Program (subject to the successful completion of program requirements and the availability of funding). FRA also intends to provide guidance to entities that submit proposals that are not selected in order to assist in the refinement of such proposals for future consideration.

While FRA intends the Corridor ID Program to support the development of many, varied intercity passenger rail corridors, FRA may limit its selection of corridors, particularly during the start of the program, based on several considerations. Such considerations may include the availability of Federal funding to implement corridors developed under the Corridor ID Program, the capacity of the intercity passenger rail industry as a whole to support the corridor development efforts, and a strategy to grow the Corridor ID Program at a sustainable rate.

D. Development Stages

As discussed, for selected corridors, FRA will partner with the entity that submitted the proposal, relevant States, and Amtrak, as appropriate, to complete the corridor development activities necessary to prepare the proposed corridor (or the independent implementation phases of a proposed corridor) for implementation. This corridor development work will be undertaken in two stages.

The first stage is the preparation of an SDP (or an update to an existing SDP), and the completion of the additional planning and engineering work required to fully define a preliminary range of reasonable alternatives for the capital projects identified as necessary to implement the corridor (or the initial implementation phase or phases of the corridor).

Following the successful completion of this first stage, the corridor (or the initial implementation phase or phases of the corridor) will advance to the second stage of development under the Corridor ID Program. The second stage is the completion of all additional corridor development work required to ready the corridor (or the initial phase or phases of implementing the corridor) for implementation. Such work will include the completion of PE and NEPA activities for the corridor, and other prerequisites to implement the service.

E. Service Development Plans

Under the Corridor ID Program, SDPs will represent the first major product of the corridor development process and will address all those topics described in section III.E. above. Furthermore, SDPs may be prepared under the Corridor ID Program as long-range corridor planning documents, with the option for the implementation of such a long-range plan to be pursued in multiple consecutive phases. In particular, SDPs may reflect two or more discrete implementation phases, with each phase associated with a specific geographic scope and set of service characteristics. Likewise, the corridor project inventory that is a major element of an SDP would be categorized by those projects required to implement each discrete phase. With this approach, FRA intends both to avoid a situation in which a corridor may be developed only as an “all-or-nothing” proposition, and to minimize the possibility that near-term implementation of a corridor would conflict with the longer-term implementation of the corridor.

F. Project Pipeline

FRA will annually submit to Congress a project pipeline that addresses the topics described in section III.F. above, including the identification of capital projects necessary to implement corridors developed under the Corridor ID Program. These capital projects will consist of those ready for immediate implementation (i.e., to advance towards the completion of final design and construction).

FRA recognizes that not all capital projects included within the corridor project inventory of an SDP—and particularly those projects associated with a corridor's later implementation phases—will be immediately advanced within the Corridor ID Program to prepare them for implementation. As such, FRA also plans to include in its annual report to Congress a separate list of those projects that are under active development (i.e., projects conducting PE and NEPA work activities) for future advancement into the project pipeline.

G. Funding

As described above, funding for the Corridor ID Program is available. FRA will provide this funding through cooperative agreements with eligible entities, and will require not less than a 20 percent non-Federal share of eligible costs, consistent with the requirements of the Fed-State Partnership program.

FRA will provide such funding consistent with the two stages of project development for selected corridors described above. First, FRA will provide funding for the preparation of an SDP (or to update an existing SDP) and the completion of the additional planning and engineering work required to fully-define a preliminary range of reasonable alternatives for the capital projects identified as necessary to implement the corridor. Second, following the successful completion of the first stage, FRA will provide funding for applicable PE and NEPA work activities for the corridor, to ready them for implementation.

VI. Expressions of Interest

FRA encourages eligible entities interested in submitting a corridor proposal under the Corridor ID Program to submit a comment in docket number FRA-2022-0031 available at https://www.regulations.gov. Search by using the docket number and follow the instructions for submitting comments.

Instructions: All submissions must include the agency name and docket number for this Notice, and should be limited to the following information: Name and contact information, a description of the entity submitting the expression of interest, and the endpoints of the corridor.

Note: All comments received, including any personal information, will be posted without change to the docket and will be accessible to the public at https://www.regulations.gov. You should not include information in your comment that you do not want to be made public. Input submitted online via www.regulations.gov is not immediately posted to the site. It may take several business days before your submission is posted.

VII. Next Steps

FRA anticipates publishing a notice requesting proposals to participate in the Corridor ID Program in the last quarter of the 2022 calendar year. That notice may include funding opportunities and will provide detailed procedural and substantive Corridor ID Program information.

In addition, in connection with the administration of the Corridor ID Program, FRA plans to provide guidance for intercity passenger rail planning, including guidance for intercity passenger rail corridors not selected by the Corridor ID Program, and to develop and refine intercity passenger rail planning analytical tools and models. Lastly, as the Corridor ID Program matures, FRA will likely develop additional guidance in support of the program.

Issued in Washington, DC.
Paul Nissenbaum,
Asociate Administrator, Office of Railroad Policy and Development.

[FR Doc. 2022-10250 Filed 5-12-22; 8:45 am]

BILLING CODE 4910-06-P